ENVIRONMENTAL PROTECTION AGENCY

40 CFR Part 52

[EPA-R06-OAR-2010-0332; FRL-9907-74-Region 6]

Approval and Promulgation of Implementation Plans; Texas; Reasonably Available Control Technology for the 1997 8-Hour Ozone National Ambient Air Quality Standard

AGENCY: Environmental Protection Agency (EPA).

ACTION: Proposed rule.

SUMMARY: The Environmental Protection Agency (EPA) is proposing to approve rule revisions to the Texas State Implementation Plan (SIP) for the Volatile Organic Compound (VOC) Control Techniques Guidelines (CTG) category for Offset Lithographic Printing, including the Reasonably Available Control Technologies (RACT) requirements for this CTG category for the Houston-Galveston-Brazoria (HGB) and the Dallas-Fort-Worth (DFW) 1997 8-hour ozone nonattainment areas. This rulemaking addresses the 2006 CTG entitled, “Lithographic Printing Materials and Letterpress Printing Materials,” as well as the corresponding RACT analysis for both the HGB and DFW 1997 8-hour ozone nonattainment areas. This action is in accordance with sections 110, 172(c) and 182 of the federal Clean Air Act (the Act, CAA).

DATES: Comments must be received on or before April 11, 2014.

ADDRESSES: Submit your comments, identified by Docket No. [EPA-R06-OAR-2010-0332], by one of the following methods:

• www.regulations.gov. Follow the on-line instructions.

• Email: Mr. Guy Donaldson at donaldson.guy@epa.gov. Please also send a copy by email to the person listed in the FOR FURTHER INFORMATION CONTACT section below.

• Mail or delivery: Mr. Guy Donaldson, Chief, Air Planning Section (6PD-L), Environmental Protection Agency, 1445 Ross Avenue, Suite 1200, Dallas, Texas 75202-2733.

Instructions: Direct your comments to Docket ID No. [EPA-R06-OAR-2010-0332]. EPA's policy is that all comments received will be included in the public docket without change and may be made available online at http://www.regulations.gov, including any personal information provided, unless the comment includes information claimed to be Confidential Business Information (CBI) or other information the disclosure of which is restricted by statute. Do not submit information through http://www.regulations.gov or email, if you believe that it is CBI or otherwise protected from disclosure. The http://www.regulations.gov Web site is an “anonymous access” system, which means that EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment along with any disk or CD-ROM submitted. If EPA cannot read your comment due to technical difficulties and cannot contact you for clarification, EPA may not be able to consider your comment. Electronic files should avoid the use of special characters and any form of encryption and should be free of any defects or viruses. For additional information about EPA's public docket, visit the EPA Docket Center homepage at http://www.epa.gov/epahome/dockets.htm.

Docket: The index to the docket for this action is available electronically at www.regulations.gov and in hard copy at EPA Region 6, 1445 Ross Avenue, Suite 700, Dallas, Texas. While all documents in the docket are listed in the index, some information may be publicly available only at the hard copy location (e.g., copyrighted material), and some may not be publicly available at either location (e.g., CBI). To inspect the hard copy materials, please schedule an appointment with the person listed in the FOR FURTHER INFORMATION CONTACT paragraph below or Mr. Bill Deese at 214-665-7253.

FOR FURTHER INFORMATION CONTACT: Ms. Ellen Belk, Air Planning Section (6PD-L), Environmental Protection Agency, Region 6, 1445 Ross Avenue, Suite 1200, Dallas, Texas 75202-2733, telephone (214) 665-2164, fax (214) 665-6762, email address belk.ellen@epa.gov.

SUPPLEMENTARY INFORMATION: Throughout this document “we,” “us,” and “our” refer to EPA.

Outline

I. Background

A. What actions are we proposing?

B. What is RACT?

II. Evaluation

A. Which CTG source category is addressed in this action, and how do Texas' Rule Revisions compare to the CTG?

B. What is Texas' approach and analysis for RACT for HGB and DFW for this CTG source category, and do the Revisions meet RACT Requirements?

III. Proposed Action

IV. Statutory and Executive Order Reviews

I. Background

A. What actions are we proposing?

The three submittals sent to the EPA from the TCEQ which are addressed in this action are: (a) VOC CTG Update: CTG Category Offset Lithographic Rulemaking, submitted April 5, 2010, (b) the 2010 HGB Attainment Demonstration SIP Revision for the 1997 8-hour Ozone Nonattainment Area, RACT Analysis for this CTG Category, submitted April 6, 2010, and (c) the 2010 DFW RACT, Rule, and Contingency SIP Revision for the 1997 8-hour Ozone Nonattainment Area, RACT Analysis for this CTG Category, submitted April 6, 2010.

The April 5, 2010 rulemaking submittal provides revisions to 30 TAC, Chapter 115 Control of Air Pollution from Volatile Organic Compounds, Subchapter E, Division 4, “Offset Lithographic Printing.” In this action, we are proposing to approve Texas' 2010 rule revisions for Offset Lithographic Printing. These rules apply to the HGB area (Brazoria, Chambers, Fort Bend, Galveston, Harris, Liberty, Montgomery and Waller counties) and DFW area (Collin, Dallas, Denton, Ellis, Johnson, Kaufman, Parker, Rockwall, and Tarrant counties).

In addition, we are proposing to approve the portions of two separate submittals that contain Texas' RACT assessment for the Offset Lithographic Printing source category for the HGB and DFW 8-hour ozone nonattainment areas. These two submittals are: The 2010 HGB Attainment Demonstration SIP Revision, and the 2010 DFW RACT, Rule, and Contingency SIP Revision, each dated April 6, 2010. Based on our review and evaluation of Texas' assessment in the HGB AD SIP Revision, including Appendix D “Reasonably Available Control Technology Analysis” containing a RACT assessment for Offset Lithographic Printing for the HGB area, we are proposing to find that Texas has met the RACT requirements for Offset Lithographic Printing for the HGB 8-hour ozone nonattainment area under section 182(b). Also, based on our review and evaluation of Texas' assessment in the DFW RACT, Rule, and Contingency SIP Revision, including Section 4 and Appendix A containing a RACT assessment for Offset Lithographic Printing for the DFW area, we are proposing to find that Texas has met the RACT requirements for Offset Lithographic Printing for the DFW 1997 8-hour ozone nonattainment area under section 182(b).

B. What is RACT?

Clean Air Act (CAA) section 172(c)(1) provides that SIPs for nonattainment areas must include reasonably available control measures including RACT for sources of emissions. The EPA has defined RACT as the lowest emissions limitation that a particular source is capable of meeting by the application of control technology that is reasonably available, considering technological and economic feasibility. See 44 FR 53761, September 17, 1979. Section 172(c)(1) of the Act requires that SIPs for nonattainment areas “provide for the implementation of all reasonably available control measures as expeditiously as practicable (including such reductions in emissions from existing sources in the area as may be obtained through the adoption, at a minimum, of reasonably available control technology) and shall provide for attainment of the primary National Ambient Air Quality Standards (NAAQS).”

Section 182(b)(2) of the Act requires states to submit a SIP revision and implement RACT for moderate and above ozone nonattainment areas. For a Moderate, Serious, or Severe Area, a major stationary source is one which emits, or has the potential to emit, 100, 50, or 25 tons per year (tpy) or more of VOCs or nitrogen oxides (NOX), respectively. See CAA sections 182(b), 182(c), and 182(d). The EPA provides states with guidance concerning what types of controls could constitute RACT for a given source category through the issuance of CTG and Alternative Control Techniques (ACT) documents. See http://www.epa.gov/ttn/naaqs/ozone/ctg_act/index.htm (URL dating May 23, 2012) for a listing of EPA-issued CTGs and ACTs for VOC.

Under CAA section 183(b), EPA is required to periodically review and, as necessary, update CTGs. For the offset lithographic printing source category, on November 8, 1993, EPA published a draft CTG for offset lithographic printing (58 FR 59261). After reviewing comments on the draft CTG and soliciting additional information to help clarify those comments, EPA published an ACT document in June 1994 that provided supplemental information for states to use in developing rules based on RACT for offset lithographic printing. In 2006, 2007 and 2008, EPA issued a number of CTGs, including one for Offset Lithographic Printing and Letterpress Printing which provided recommendations for RACT for these sources.

In accordance with the 2006, 2007 and 2008 CTGs, Texas revised its Chapter 115 regulations to address these VOC RACT control measures. The revisions to Chapter 115 regulations that correspond to the 2006 EPA-issued CTG for Offset Lithographic Printing and the related RACT analysis for both HGB and DFW are the subject of this rulemaking action. In this action, we consider that consistency with the CTG represents RACT. See the Technical Support Document (TSD) for further discussion of CTGs and RACT.

The HGB Area was designated as Severe for the 1997 8-hour ozone NAAQS. See 73 FR 56983, October 1, 2008. Thus, per section 182(d) of the CAA, a major stationary source in the HGB Area is one which emits, or has the potential to emit, 25 tpy or more of VOCs or NOX.

On April 30, 2004, the EPA designated the DFW area as a moderate nonattainment area under the 1997 8-hour ozone standard, with an attainment date of June 15, 2010 (see 69 FR 23858). However, the DFW area failed to attain the 1997 ozone standard by June 15, 2010, and was therefore reclassified as a serious ozone nonattainment area (see 75 FR 79302, December 20, 2010).¹ Thus, per section 182(d) of the CAA, a major stationary source in the DFW Area is one which emits, or has the potential to emit, 50 tpy or more of VOCs or NOX.

¹ On April 30, 2012, the EPA promulgated designations under the 2008 ozone standard (see 77 FR 30088, published May 21, 2012). In that action, the EPA designated Collin, Dallas, Denton, Ellis, Johnson, Kaufman, Parker, Rockwall, Tarrant and Wise counties as a moderate ozone nonattainment area. This action does not address the nonattainment area for the 2008 ozone standard.

II. Evaluation

A. Which CTG source category is addressed in this action, and how do Texas' Rule Revisions compare to the CTG?

Table 1 below shows the VOC CTG source category and the corresponding sections of 30 TAC Chapter 115 which fulfill the applicable RACT requirements under section 182(b) of the Clean Air Act.

Table 1—CTG Source Category and Corresponding Texas VOC RACT Rules
Source category in HGB Area | CTG reference document | Chapter 115, fulfilling RACT
Offset Lithographic Printing | Control Techniques Guidelines for Offset Lithographic Printing and Letterpress Printing, EPA-453/R-06-002—September 2006 | §§ 115.440-449.

This action addresses changes to Texas' VOC rules affecting offset lithographic printing sources in the DFW and Houston Galveston Brazoria HGB 1997 8-hour ozone nonattainment areas. These rule revisions reduce the VOC content limits on fountain solutions used by sources that were subject to the previous Chapter 115 rules. These rules also limit the VOC content of fountain and cleaning solutions used by certain sources that were exempt from the previous Chapter 115 rules.

In general, these rule revisions require the owner or operator of an affected offset lithographic printing line to reduce the VOC content of the fountain solution and the cleaning solution used in the printing process. For reducing the VOC content of the fountain solution, these rule revisions provide several compliance options including: Reducing the alcohol content of the refrigerated solution; further reducing the alcohol content of the unrefrigerated solution; or using reformulated materials to eliminate alcohol in the solution. For reducing the VOC content of the cleaning solution, these rule revisions also provide several options, including using low-VOC cleaning solutions; using low-VOC cleaning solution in conjunction with work practice standards; or using low vapor pressure cleaning solutions in conjunction with work practice standards.

Letterpresses. The 2006 CTG recommends controlling VOC emissions from letterpress printing. This SIP revision does not include rule changes for letterpress printing sources because review of the point source emissions inventory, Title V Permits and central registry databases did not identify any letterpresses that would be subject to the CTG recommended controls.

Heatset Offset Lithographic Presses. The 2006 CTG recommends requiring an add-on air pollution control device on each individual heatset web offset-lithographic press with the uncontrolled potential to emit at least 25 tpy from ink oils volatilized in the dryer. In addition, the CTG recommends increasing the control efficiency requirement from 90% to 95% for control devices installed after the rule effective date. This SIP revision does not include new rule changes for heatset presses because the State found that the existing rules are at least as effective or more effective than the 2006 CTG recommendations. For control devices installed before the effective date of the rule, in the HGB area, the existing Chapter 115 rules either meet or exceed EPA's recommendations for control devices installed before the effective date of the rule. In the DFW area, the existing level of control on heatset presses identified in the area either meets or exceeds the CTG recommendation for control devices. For control devices installed after the effective date of the rule, the 2006 CTG recommendation to require a 95% control efficiency was determined by the State to be no more stringent than the existing rules which require control devices with an efficiency of at least 90% to be installed on all heatset offset lithographic presses located on a property with combined VOC emissions (when uncontrolled) of at least 50 tpy in the DFW area and at least 25 tpy in the HGB area. The State found that the existing rule “is effectively more stringent than the CTG recommended threshold for installation of control devices based on 25 tpy of VOC from the dryer because the majority of emissions (approximately 75%) come from sources other than the dryer.” Additionally, the 2006 CTG recommends setting the control efficiency requirement of the control equipment based on the first installation date of the equipment, regardless of the location. The State intentionally did not revise its SIP to incorporate this recommendation due to a concern that “such a policy may encourage the installation of older less efficient equipment and could also create significant practical enforceability issues for commission investigators with regard to verifying the first installation date of the control equipment.” Based upon our review, we agree with the State's determination for this source category.

Fountain Solution. The 2006 CTG recommends limiting the fountain solution content to 5.0% alcohol substitutes or less by weight and no alcohol in the fountain solution. Prior to these revisions, for major sources, the previous Chapter 115 rules contained an option limiting the fountain solution content to 3.0% alcohol substitutes or less by weight and no alcohol in the fountain solution for printing operations located on a property in the DFW area with combined VOC emissions of at least 50 tpy when uncontrolled and in the HGB area with combined VOC emissions of at least 25 tpy when uncontrolled. For these major printing sources that were previously subject to this more stringent limit, these revisions retain a limit of 3.0% alcohol substitutes or less by weight and no alcohol in the fountain solution to avoid backsliding. Small businesses were not previously subject to these rules. However, in this action, small businesses are now included, and this SIP revision offers several options which are as stringent as the 2006 CTG to help mitigate the financial impact of these regulations. These options for smaller sources include the 2006 CTG recommendation to limit the fountain solution content to 5% alcohol substitutes or less by weight and no alcohol in the fountain solution. Additionally, the compliance date for smaller sources was extended to March 1, 2012 to provide additional time for these facilities to determine the most cost-effective compliance strategies and to implement any necessary changes.

Cleaning Solution. The 2006 CTG recommends limiting the VOC content of cleaning solutions used in offset lithographic printing operations to 70.0% VOC by weight in conjunction with work practice standards. The Texas rule revisions require the owner or operator of an affected offset lithographic printing line to reduce the VOC content of the cleaning solutions used in the printing process and provide several options for complying, including the following: Using low-VOC cleaning solutions; using low-VOC cleaning solution in conjunction with work practice standards; or using low vapor pressure cleaning solutions in conjunction with work practice standards. These revisions retain the existing Chapter 115 rule requiring a cleaning solution content limit of 70% by volume in conjunction with work practice standards as an option. Also, these revisions retain the previously existing Chapter 115 option to limit the cleaning solution content to 50% VOC by volume. Because the existing rules were determined by TCEQ to be at least as stringent as the 2006 CTG recommendations, TCEQ included these options to retain the flexibility afforded to owners and operators subject to the previous rules. The 2006 CTG also recommends specific work practices for cleaning solutions used by offset lithographic printing lines with uncontrolled potential to emit at least 3.0 tpy of VOC. These rule revisions include the CTG's recommended work practice standards for cleaning solutions.

Monitoring, Recordkeeping, and Testing Requirements. All affected sources are required to comply with monitoring, recordkeeping, and testing requirements to demonstrate continuous compliance with the content limits in these rule revisions.

Non-Substantive Revisions. In addition to the revisions described above to implement RACT for offset lithographic printing, these revisions include approvable grammatical, stylistic, and various other non-substantive changes to update the rule in accordance with current requirements, to improve readability, to establish consistency in the rules, and to conform to standards in the “Texas Legislative Council Drafting Manual,” dated September 2008.

B. What is Texas' approach and analysis for RACT for HGB and DFW for this CTG source category, and do the revisions meet RACT requirements?

Under CAA sections 182(b)(2)(A) and (B), states must insure RACT is in place for each source category for which EPA issued a CTG. As a part of a June 13, 2007 submittal TCEQ conducted a RACT analysis to demonstrate that the RACT requirements for CTG sources in the HGB 8-hour ozone nonattainment Area have been fulfilled. The TCEQ conducted its analyses by: (1) Identifying all categories of CTG and major non-CTG sources of VOC and NOX emissions within the HGB Area; (2) Listing the state regulation that implements or exceeds RACT requirements for that CTG or non-CTG category; (3) Detailing the basis for concluding that these regulations fulfill RACT through comparison with established RACT requirements described in the CTG guidance documents and rules developed by other state and local agencies; and (4) Submitting negative declarations when there are no CTG or major Non-CTG sources of VOC emissions within the HGB Area. The TCEQ revised its rules for Offset lithographic printers and supplemented its 2007 analysis in its April 6, 2010 submittals in response, in part, to EPA's issuance of the CTG for Offset Lithographic printing.

We have reviewed these revisions to Chapter 115 for Offset Lithographic Printing and have determined that they are in are in agreement with EPA's CTG documents listed in Table 1 above. See our TSD prepared in conjunction with this document. Because these revisions are in agreement with our CTG, we are proposing that they satisfy RACT requirements, and by implementing these measures Texas is meeting the VOC RACT requirements for this source category in the HGB and DFW 1997 8-hour ozone nonattainment Areas. In addition, in its April 6, 2010, submittals to EPA for HGB and DFW, TCEQ states that it has reviewed the HGB and DFW VOC rules for Offset Lithographic Printing and certifies that they satisfy RACT requirements for the 1997 8-hour ozone standard by the application of control technology that is reasonably available considering technological and economic feasibility. We are proposing to approve these determinations that Texas VOC rules for Offset Lithographic Printing sources are in agreement with the CAA's RACT requirements and as a result the Texas SIP satisfies the RACT requirements for this CTG source category in the HGB and DFW Areas under the 1997 8-hour ozone standard.

III. Proposed Action

We are proposing to approve Texas' 2010 rule revisions for the VOC CTG source category identified in Table 1, Offset Lithographic Printing. In addition, we are proposing to find that for this CTG category Texas has RACT-level controls in place for the HGB and DFW Areas under the 1997 8-hour ozone standard.

IV. Statutory and Executive Order Reviews

Under the Clean Air Act, the Administrator is required to approve a SIP submission that complies with the provisions of the Act and applicable Federal regulations. If a portion of the plan revision meets all the applicable requirements of this chapter and Federal regulations, the Administrator may approve the plan revision in part. 42 U.S.C. 7410(k); 40 CFR 52.02(a). Thus, in reviewing SIP submissions, EPA's role is to approve state choices that meet the criteria of the Act, and to disapprove state choices that do not meet the criteria of the Act. Accordingly, this proposed action approves state law as meeting Federal requirements and does not impose additional requirements beyond those imposed by state law. For that reason, this proposed action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of section 12(d) of the National Technology Transfer and Advancement Act of 1995 (15 U.S.C. 272 note) because application of those requirements would be inconsistent with the Clean Air Act;

• does not provide EPA with the discretionary authority to address, as appropriate, disproportionate human health or environmental effects, using practicable and legally permissible methods, under Executive Order 12898 (59 FR 7629, February 16, 1994); and

• this rule does not have tribal implications as specified by Executive Order 13175 (65 FR 67249, November 9, 2000), because the SIP is not approved to apply in Indian country located in the state, and EPA notes that it will not impose substantial direct costs on tribal governments or preempt tribal law.

Authority: 42 U.S.C. 7401 et seq.

List of Subjects in 40 CFR Part 52

Environmental protection, Air pollution control, Hydrocarbons, Incorporation by reference, Intergovernmental relations, Reporting and recordkeeping requirements, Volatile organic compounds.

Dated: February 25, 2014.
Ron Curry,
Regional Administrator, Region 6.

[FR Doc. 2014-05384 Filed 3-11-14; 8:45 am]

BILLING CODE 6560-50-P